DEPARTMENT OF HEALTH AND HUMAN SERVICES

Centers for Disease Control and Prevention

[Program Announcement 00128]

Rural Human Immunodeficiency Virus/Acquired Immune Deficiency Syndrome (HIV/AIDS) Prevention and Education Project; Notice of Availability of Funds

A. Purpose

The Centers for Disease Control and Prevention (CDC 2000 funds for a cooperative agreement program for Rural HIV/AIDS Prevention and Education. This program addresses the “Healthy People 2010” focus area of HIV Prevention. For the conference copy of “Healthy People 2010”, visit the internet site: http//www.health.gov/healthy people. The purpose of the program is to support the following activities: (1) An information exchange program among health and education officials in local and State government concerning HIV prevention in non-urban areas; (2) HIV prevention program and policy development; and (3) the provision of technical assistance to community-based organizations (CBOs), local and State health departments, and others involved in health promotion and disease prevention activities to persons in non-urban areas.

B. Eligible Applicants

Assistance will be provided only to the Rural Center for AIDS and STD Prevention (RCAP) at Indiana University. No other applications are solicited. [This is consistent with Senate Appropriations language for the Labor, Health and Human Services, Centers for Disease Control and Prevention regarding HIV for Fiscal Year 2000 which encourages CDC to sustain the Rural Center for AIDS and STD Prevention so it may continue its efforts in rural communities through prevention specialists.]

Eligibility is limited to RCAP because it is the only national organization in the country that solely focuses on HIV and Sexually Transmitted Diseases (STD) prevention in rural communities. RCAP was created specifically to promote HIV/STD prevention in rural America, with the goal of reducing HIV/AIDS. RCAP has served as a policy-development and capacity-building organization in intergovernmental affairs for more than five years and has as one of its major objectives the sharing of information between local governments.

Note: Public Law 104-65 states that an organization described in section 501(c)(4) of the Internal Revenue Code of 1986 that engages in lobbying activities is not eligible to receive Federal funds constituting an award, grant, cooperative agreement, contract, loan, or any other form.

C. Availability of Funds

Approximately $250,000 is available in FY 2000, to fund one award. It is expected that the award will begin on or about September 30, 2000 and will be made for a 12-month budget period within a project period of up to five years. Funding estimates may change.

Continuation awards within an approved project period will be made on the basis of satisfactory progress as evidenced by required reports and the availability of funds.

Use of Funds

Funds may not be used to supplant or duplicate existing funding.

D. Program Requirements

In conducting activities to achieve the purpose of this program, the recipient shall be responsible for the activities under 1. “Recipient Activities”, and CDC will be responsible for the activities listed under 2. “CDC Activities'.

1. Recipient Activities

a. Identify and evaluate HIV prevention policies, practices, procedures, programs, and processes that are considered to be effective in rural areas.

b. Assist representatives of rural communities in identifying and evaluating mechanisms to incorporate HIV prevention into their short-and long-range plans.

c. In collaboration with other agencies, develop prevention education materials and guidelines, as well as technical and practical information warranted by new epidemiological, behavioral, or clinical discoveries that particularly have applications for rural areas.

d. Use existing information vehicles, e.g., information exchange newsletters, capsule and technical assistance reports, case studies, information alerts, directories, conferences, workshops, and HIV/AIDS-related telecommunications networks in disseminating successful program elements.

e. Provide technical assistance to rural health and education officials and CBOs on HIV prevention program and management issues such as: grant writing, educational material development, and program development, implementation, and evaluation. Provide training to selected groups of rural prevention specialists, such as adolescent peer educators, through workshops and/or conferences.

f. Develop rural case studies that will enable: Community Planning Groups (CPGs), local health departments (LHDs) and CBOs to benefit from the experience of other organizations in the planning, development, implementation, and evaluation of community prevention planning processes, needs assessments, programs and related activities which are particularly relevant to rural areas.

g. Prepare abstracts, posters, oral presentations, and articles for publication in peer-reviewed journals.

h. Obtain information and materials through surveys of local school districts and health departments, other local government agencies, CBOs, CPGs, and other community entities concerning HIV/AIDS prevention-related funding, policies, practices, procedures, programs, and processes.

2. CDC Activities

a. Collaborate as needed/requested in the development of a dissemination plan so that practical and technical information related to rural HIV/AIDS prevention can be rapidly shared with appropriate government and health department officials, as well as CBOs and CPGs.

b. Assist as needed/requested in identifying (1) HIV prevention-related policies, practices, procedures, community needs and processes; (2) local health education/risk reduction programs that have demonstrated the capability to successfully serve the needs of rural populations with AIDS or HIV infection, sex and needle-sharing partners, high-risk populations, health-care providers, or the general public; and (3) other local HIV prevention-related efforts (e.g. community planning or peer youth education) that offer valuable lessons to benefit others.

c. Collaborate as needed/requested in the planning of all workshops, conferences and other professional gatherings that serve a rural public health purpose, and provide speakers for meetings that are regional or national in scope.

d. Collaborate as needed/requested and give technical feedback to RCAP on drafts of all HIV-related materials intended for dissemination, including assistance in evaluation efforts of rural prevention programs.

e. Collaborate in the analysis and presentation of all materials for publication.

E. Application Content

Use the information in the Program Requirements, Other Requirements, and Evaluation Criteria sections to develop the application content. Your application will be evaluated on the criteria listed under “Section G, Evaluation Criteria.” Therefore it is important to follow the specified criteria when designing your program plan. Provide a detailed plan for activities for the initial budget period and a more general plan for activities in Years 2 through 5 of the project period. Specifically:

1. Describe the need for and a plan to address the required recipient activities. This description should include the need for programs and activities that directly address HIV prevention gaps that have already been identified by non-urban areas of the nation.

2. Describe past experience in providing technical assistance, on a national scope, to State and local health and education agencies, CBOs and others engaged in HIV/AIDS and STD prevention and education activities.

3. Provide realistic, measurable, and time-phased objectives that are related to the purpose of this program and the Healthy People 2010 national objectives. Provide program objectives for the budget period (year 1) and the project period (5 years).

4. Describe the activities that will be carried out to accomplish the proposed objectives.

5. Provide a plan of evaluation that addresses each of the objectives and activities. Indicate how the evaluation findings will be used in program planning and decision making.

6. Provide a line item budget and justification that is consistent with the purpose of this program and the proposal submitted.

The narrative should be no more than 15 double-spaced pages, with one inch margins, printed on one side in 10 or 12 point font(s).

F. Submission and Deadline

Application

The applicant must submit the original and two copies of PHS 5161-1 (OMB Number 0937-0189). Forms are available at the following Internet address: www.cdc.gov/...Forms, or in the application kit. On or before August 18, 2000, submit the application to the Grants Management Specialist identified in the “Where to Obtain Additional Information” section of this announcement.

Deadline: The application shall be considered as meeting the deadline if it is either:

(a) Received on or before the deadline date; or

(b) Sent on or before the deadline date and received in time for submission to the independent review group. (The Applicant must request a legibly dated U.S. Postal Service postmark or obtain a legibly dated receipt from a commercial carrier or U.S. Postal Service. Private metered postmarks shall not be acceptable as proof of timely mailing.)

Late Application: If the application does not meet the criteria in (a) or (b) above, it will be considered a late application. Subsequently, it will not be considered for funding and will be returned to the applicant.

G. Evaluation Criteria

The application will be evaluated against the following criteria by an independent review group appointed by CDC:

1. Description of Need (25 points) The extent to which the applicant has described the need for a program to address rural HIV prevention needs and its ability to conduct HIV prevention activities and programs that will address the needs identified.

2. Program Plan and Objectives (25 points) The extent to which the application includes an achievable plan, with specific, measurable, and attainable objectives, for conducting project activities as described under the section “Program Requirements, 1. Recipient Activities.”

3. Evaluation Plan (40 points) The extent to which the application includes reasonable and appropriate methods for evaluating the project's effectiveness.

4. Personnel Policies and Procedures (10 points) The extent to which the applicant demonstrates the existence and use of organizational policies and procedures requiring the hiring, training and assigning of qualified personnel to conduct and manage project activities.

5. Budget and Justification (not scored) The extent to which the budget is reasonable, clearly justifiable, and consistent with the intended use of funds.

H. Other Requirements

Technical Reporting Requirements

Provide CDC with original plus two copies of

1. annual progress reports;

2. Financial Status Report (FSR), SF 269, no more than 90 days after the end of the budget period; and

3. final financial and performance reports, no more than 90 days after the end of the project period.

Send all reports to the Grants Management Specialist identified in the “Where to Obtain Additional Information” section of this announcement.

The following additional requirements are applicable to this program. For a complete description of each, see Attachment I in the application kit.

AR-5 HIV Program Review Panel Requirements

AR-9 Paperwork Reduction Act Requirements

AR-10 Smoke-Free Workplace Requirements

AR-11 Healthy People 2010

AR-12 Lobbying Restrictions

AR-14 Accounting System Requirements

AR-20 Conference Support

I. Authority and Catalog of Federal Domestic Assistance Number

This program is authorized under section 301 (a) of the Public Health Service Act, [42 U.S.C. section 241 (a)], as amended. The Catalog of Federal Domestic Assistance number is 93.939, HIV Prevention Activities—Non-Governmental Organizations.

J. Where To Obtain Additional Information

To obtain additional information, contact: Annie Harrison Camacho, Grants Management Specialist, Grants Management Branch, Procurement and Grants Office, Centers for Disease Control and Prevention (CDC), Room 3000, 2920 Brandywine Road, Mailstop E-15, Atlanta, Georgia 30341. Telephone number: (770) 488-2735. Email address: atc4@CDC.gov

Access to this information and all other CDC announcements are available on the CDC home page on the Internet: http://www.cdc.gov

For program technical assistance, contact: Mr. David Brownell, Division of HIV/AIDS Prevention, National Center for HIV, STD, and TB Prevention, Centers for Disease Control and Prevention, 1600 Clifton Road N.W., Mailstop E-35, Atlanta, Georgia 30333, Telephone: (404) 639-5200, Email: DFB2@CDC.gov

Dated: June 14, 2000.
John L. Williams,
Director, Procurement and Grants Office, Centers for Disease Control and Prevention (CDC).

[FR Doc. 00-15463 Filed 6-19-00; 8:45 am]

BILLING CODE 4163-18-P